DEPARTMENT OF COMMERCE

National Oceanic and Atmospheric Administration

RIN: 0648-XC18

Gulf of Mexico Fishery Management Council; Public Hearings

AGENCY: National Marine Fisheries Service (NMFS), National Oceanic and Atmospheric Administration (NOAA), Commerce.

ACTION: Notice of public hearings.

SUMMARY: The Gulf of Mexico Fishery Management Council (Council) will convene Public Hearings on Reef Fish Amendment 30A and Scoping Amendment 29.

DATES: The public meetings will held from September 10 - 18, 2007 at 10 locations throughout the Gulf of Mexico. For specific dates and times see SUPPLEMENTARY INFORMATION.

ADDRESSES: The public meetings will be held in the following locations: St. Petersburg, Ft. Myers, Marathon and Panama City, FL; Biloxi, MS; Gulf Shores, AL; New Orleans, LA; Galveston, Palacios and Corpus Christi, TX. For specific dates and times see SUPPLEMENTARY INFORMATION.

Council address: Gulf of Mexico Fishery Management Council, 2203 North Lois Avenue, Suite 1100, Tampa, FL 33607.

FOR FURTHER INFORMATION CONTACT: Frank S. Kennedy, Fishery Biologist; telephone: (813) 348-1630.

SUPPLEMENTARY INFORMATION: The Gulf of Mexico Fishery Management Council (Council) has scheduled a series of public hearings and scoping meetings to receive comments on Draft Amendment 30A and a scoping document for Amendment 29 to the Reef Fish Fishery Management Plan. Amendment 30A contains potential management measures to modify the rebuilding plan for greater amberjack and to establish a rebuilding plan for gray triggerfish in order to end overfishing and rebuild the stocks of both species. These measures would reduce the directed greater amberjack harvest by 32 percent and reduce harvest of gray triggerfish by 49 percent. Amendment 30A also contains management measures that consider re-allocation of the greater amberjack and gray triggerfish resources between commercial and recreational fishers and accountability measures to ensure compliance with the rebuilding plans. Amendment 29 will rationalize effort and reduce overcapacity in the commercial grouper fishery.

The public hearings will begin at 6 p.m. with Amendment 30A will be followed by the scoping hearing for Amendment 29. Public testimony will conclude no later than 10 p.m. at each of the following locations:

Monday, September 10, 2007, W Hotel, 333 Poydras St., New Orleans, LA 70130, telephone: (504) 525-9444;

Monday, September 10, 2007, Wingate Inn, 12009 Indian River Rd., Biloxi, MS 39540, telephone: (228) 396-0036;

Tuesday, September 11, 2007, Courtyard by Marriott, 3750 Gulf Shores Pkwy., Gulf Shores, AL 36542, telephone: (251) 968-1113;

Tuesday, September 11, 2007, Holiday Inn, 5002 Seawall Blvd, Galveston, TX 77551, telephone: (409) 740-3581;

Wednesday, September 12, 2007, Edgewater Beach Resort, 11212 Front Beach Road Panama City, FL 32407, telephone: (800) 331-6338;

Wednesday, September 12, 2007, Palacios Recreational Center, 2401 Perryman, Palacios, TX 77465, telephone: (361) 972-2387;

Thursday, September 13, 2007, Holiday Inn Emerald Beach, 1102 S. Shoreline Blvd., Corpus Christi, TX 78401, telephone: (361) 883-5731.

Monday, September 17, 2007, Radisson Hotel, 12600 Roosevelt Blvd., St. Petersburg, FL 33716, telephone: (727) 572-7800;

Tuesday, September 18, 2007, Sombrero Cay Club Resort, 19 Sombrero Blvd., Marathon, FL 33050, telephone: (305) 743-2250;

Wednesday, September 19, 2007, Clarion Hotel, 12635 S. Cleveland Ave., Ft. Myers, FL 33907, telephone: (239) 936-4300.

Copies of the Amendments can be obtained by calling the Council office at (813) 348-1630. These meetings are physically accessible to people with disabilities. Requests for sign language interpretation or other auxiliary aids should be directed to Tina Trezza at the Council (see ADDRESSES) at least 5 working days prior to the meeting.

Dated: August 17, 2007.
Tracey L. Thompson,
Acting Director, Office of Sustainable Fisheries, National Marine Fisheries Service.

[FR Doc. E7-16618 Filed 8-22-07; 8:45 am]

BILLING CODE 3510-22-S